DEPARTMENT OF HEALTH AND HUMAN SERVICES

Administration for Community Living

Agency Information Collection Activities; Submission for OMB Review; Public Comment Request; SHIP-SMP Survey of Group Outreach and Education Events, Formerly the “Senior Medicare Program National Beneficiary Survey”, OMB #0985-0056

AGENCY: Administration for Community Living, HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to the Proposed Revision and solicits comments on the information collection requirements related to the “National SHIP-SMP Beneficiary Survey of Group Outreach and Education Events”.

DATES: Submit written comments on the collection of information by July 24, 2020.

ADDRESSES: Submit electronic comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Sara Vogler, Administration for Community Living, Washington, DC 20201, 202-795-7461, Sara.Vogler@acl.hhs.gov.

SUPPLEMENTARY INFORMATION: In compliance with the Paperwork Reduction Act, ACL has submitted the following proposed information collection to OMB for review and clearance.

The SHIP-SMP Survey of Group Outreach and Education Events is a survey of individuals who attend outreach and education events provided by the State Health Insurance Assistance Program (SHIP) or Senior Medicare Patrol (SMP). These events help Medicare beneficiaries understand their Medicare benefits and options. These events also increase the ability of beneficiaries to identify fraud, waste, and abuse within health care programs generally, and Medicare/Medicaid specifically.

The State Health Insurance Assistance Program (SHIP) was created under the Omnibus Budget Reconciliation Act of 1990. This section of the law authorized the Department of Health and Human Services (HHS) to make grants to states to establish and maintain health insurance advisory service programs for Medicare beneficiaries. Grant funds were made available to support information, counseling, and assistance activities related to Medicare, Medicaid, and other health insurance options.

The Senior Medicare Patrol (SMP) program was authorized in 1997 under Titles II and IV of the Older Americans Act, the Omnibus Consolidated Appropriation Act of 1997 and the Health Insurance Portability and Accountability Act of 1996. The SMP mission is to empower and assist Medicare beneficiaries, their families, and caregivers, to prevent, detect, and report suspected healthcare fraud, errors, and abuse through outreach, counseling, and education.

SMP grantees support ACL's goals of promoting increased choice and greater independence among older adults and individuals with disabilities. SMP activities enhance the financial, emotional, physical, and mental well-being of older adults, thereby increasing their capacity to maintain security in retirement and make better financial and healthcare choices.

SHIP-SMP grantees provide group outreach and education through presentation events, and this collection will survey the attendees of those events. The SHIP-SMP Survey of Group Outreach and Education Events will focus on group outreach and education events and the individuals who attend them, to determine if the target audience is satisfied with the information they are receiving. This is a renewal of the existing Senior Medicare Program National Beneficiary Survey, which received clearance on August 28, 2017, with ICR Reference Number 201702-0985-003 and OMB Control Number 0985-0056. That survey was conducted over a three-year period beginning on October 1, 2017, and will conclude on March 30, 2020.

To date, the Senior Medicare Program National Beneficiary Survey has generated over 5000 responses, all of which were submitted anonymously and voluntarily.

ACL requests renewal of the survey to continue the collection performed in Fiscal Years 2018, 2019, and 2020. Reports developed for FY18 and FY19 participants have provided an overall measure of presentation attendee satisfaction and have provided insight into the relationship between presentation inputs (information provided, access to presentations) and overall satisfaction. The renewed survey will include both SHIP and SMP presentations and will survey every participating state and territory at least once each year.

To generate a sample with a 95% confidence level at the national level 400 responses will be required, which is based on over 500,000 group outreach and education event attendees in 2018. ACL will draw a representative sample of event attendees by surveying each of the 54 participating states and territories at least once. An average event surveyed in FY18 or FY19 generated 11 completed surveys, resulting in an estimated minimal collection of 600 responses.

In the first three years of the existing survey states and territories had the opportunity to exceed the minimum requirements, in order to collect a larger overall dataset for their state or territory. This opportunity will continue with the renewed survey. Assuming that an average state or territory collects 100 surveys per year, the maximum burden estimate is 5400 responses per year.

The proposed data collection tools may be found on the ACL website for review at https://www.acl.gov/about-acl/public-input.

Estimated Program Burden

ACL estimates the burden associated with this collection of information as follows:

Respondent/data collection activity | Number of respondents (minimum) | Responses per respondent | Hours per response | Annual burden hours
Survey, Stratified Random Sample | 600 | 1 | 5/60 | 50
Total | 600 | 1 | 5/60 | 50

Respondent/data collection activity | Number of respondents (maximum) | Responses per respondent | Hours per response | Annual burden hours
Survey, Stratified Random Sample | 5,400 | 1 | 5/60 | 450
Total | 5,400 | 1 | 5/60 | 450

Dated: June 17, 2020.
Mary Lazare,
Principal Deputy Administrator.

[FR Doc. 2020-13576 Filed 6-23-20; 8:45 am]

BILLING CODE 4154-01-P